DEPARTMENT OF HOUSING AND URBAN DEVELOPMENT

[Docket No. FR-5500-N-23]

Notice of Web Availability; Notice of Funding Availability (NOFA) for HUD's Fiscal Year (FY) 2011 Doctoral Dissertation Research Grant Program

AGENCY: Office of the Chief of the Human Capital Officer, HUD.

ACTION: Notice.

SUMMARY: HUD announces the availability on its Web site and Grants.gov of the applicant information, submission deadlines, funding criteria, and other requirements for HUD's FY2011 Doctoral Dissertation Research Grant Program NOFA. Specifically, this NOFA announces the availability of approximately $400,000 made available under the Department of Defense and Full-Year Continuing Appropriations Act, 2011, Public Law 112-10, enacted April 15, 2011.

The purpose of the Doctoral Dissertation Research Grant Program is to enable doctoral candidates enrolled at institutions of higher education accredited by a national or regional accrediting agency recognized by the U.S. Department of Education to complete and improve the quality of their dissertations on policy-relevant housing and urban development issues.

The notice providing information regarding the application process, funding criteria and eligibility requirements, application and instructions can be found using the Department of Housing and Urban Development agency link on the Grants.gov/Find Web site at http://www.grants.gov/search/agency.do. A link to the funding opportunity is also available on the HUD Web site at http://portal.hud.gov/hudportal/HUD?src=/program_offices/administration/grants/fundsavail. The link from the funds available page will take you to the agency link on Grants.gov. The Catalogue of Federal Domestic Assistance (CFDA) number for this program is 14.516. Applications must be submitted electronically through Grants.gov.

FOR FURTHER INFORMATION CONTACT: Questions regarding specific program requirements should be directed to the agency contact identified in the program NOFA. Program staff will not be available to provide guidance on how to prepare the application. Questions regarding the 2011 General Section should be directed to the Office of Grants Management and Oversight at (202) 708-0667 or the NOFA Information Center at 800-HUD-8929 (toll free). Persons with hearing or speech impairments may access these numbers via TTY by calling the Federal Information Relay Service at 800-877-8339.

Dated: June 9, 2011.
Barbara S. Dorf,
Director, Office of Departmental Grants Management and Oversight, Office of the Chief of the Human Capital Officer.

[FR Doc. 2011-14912 Filed 6-15-11; 8:45 am]

BILLING CODE 4210-67-P